DEPARTMENT OF HEALTH AND HUMAN SERVICES

Health Resources and Services Administration

Agency Information Collection Activities: Submission to OMB for Review and Approval; Public Comment Request; Ryan White HIV/AIDS Program Client-Level Data Reporting System

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than August 15, 2024.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Joella Roland, the HRSA Information Collection Clearance Officer, at paperwork@hrsa.gov or call (301) 443-3983.

SUPPLEMENTARY INFORMATION:

Information Collection Request Title: Ryan White HIV/AIDS Program Client-Level Data Reporting System, OMB No. 0906-0039—Revision.

Abstract: The Ryan White HIV/AIDS Program (RWHAP), authorized under Title XXVI of the Public Health Service Act, is administered by the HIV/AIDS Bureau within HRSA. HRSA awards funding to recipients in areas of the greatest need to respond effectively to the HIV epidemic, with an emphasis on providing life-saving and life-extending medical care, treatment, and support services for people with HIV in the United States.

The RWHAP reporting requirements include the annual submission of client-level data in the RWHAP Services Report (RSR). The RSR is designed to collect information from grant recipients and their subawarded service providers, funded under Parts A, B, C, and D of the RWHAP statute.

HRSA is requesting a revision of the current RSR with two proposed updates:

Health Coverage

• HRSA proposes adding Medicare Advantage as a response option to the client's healthcare coverage data element.

Drug Addiction Treatment Act of 2000 Waiver Requirement

Current Questions

• Within your organization/agency, identify the number of physicians, nurse practitioners, or physician assistants who obtained a Drug Addiction Treatment Act of 2000 waiver to treat opioid use disorder with medication assisted treatment, (e.g., buprenorphine, naltrexone) specifically approved by the U.S. Food and Drug Administration.

• How many of the above physicians, nurse practitioners, or physician assistants prescribed medication assisted treatment (e.g., buprenorphine, naltrexone) for opioid use disorders in the reporting period?

Proposed Change to Question in 2024 RSR Form

• How many physicians, nurse practitioners, or physician assistants in your organization prescribed medications for opioid use disorder (e.g., buprenorphine, naltrexone) for opioid use disorders during the reporting period?

A 60-day notice published in the Federal Register on April 24, 2024, vol. 89, No. 79; pp. 30384-85. There were no public comments.

Need and Proposed Use of the Information: The RWHAP statute specifies HRSA's responsibilities in administering grant funds, allocating funding, assessing HIV care outcomes (e.g., viral suppression), and serving priority populations. The RSR collects data on the characteristics of RWHAP-funded recipients, their contracted service providers, and the patients or clients served. The RSR system consists of two primary components (the Recipient Report and the Provider Report) and a data file containing de-identified client-level data elements. Data are submitted annually. The RWHAP statute specifies the importance of recipient accountability. The RSR is used to ensure recipient compliance with the law, including evaluating the effectiveness of programs, monitoring recipient and provider performance, and preparing annual reports to Congress. Information collected through the RSR is critical for HRSA, state and local grant recipients, and individual providers to assess the status of existing HIV-related service delivery systems, monitor trends in service utilization, evaluate the impact of data reporting, and identify areas of greatest need.

Likely Respondents: RWHAP grant recipients, as well as their subawarded service providers, funded under RWHAP Parts A, B, C, and D.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Recipient Report | 595 | 1 | 595 | 11 | 6,545
Provider Report | 2,063 | 1 | 2,063 | 13 | 26,819
Client Report | 1,532 | 1 | 1,532 | 113 | 173,116
Total | 4,190 |  | 4,190 |  | 206,480

Maria G. Button,
Director, Executive Secretariat.

[FR Doc. 2024-15616 Filed 7-15-24; 8:45 am]

BILLING CODE 4165-15-P